DEPARTMENT OF THE INTERIOR

National Park Service

[NPS-WASO-NRSS-WRD-10963; 2380-N203-NWZ]

Proposed Information Collection; Comment Request; Cape Lookout National Park Visitor and Community Survey

AGENCY: National Park Service, Interior.

ACTION: Notice; request for comments.

SUMMARY: We (National Park Service) will ask the Office of Management and Budget (OMB) to approve the Information Collection (IC) described below. This collection will be used to survey two subsets of visitor groups and local community members about the values they place on cultural and natural resources of at Cape Lookout National Park (CALO). To comply with the Paperwork Reduction Act (PRA) of 1995, and as part of our continuing efforts to reduce paperwork and respondent burden, we invite the general public and other Federal agencies to take this opportunity to comment on this IC.

DATES: To ensure that your comments on this IC are considered, we must receive them on or before October 1, 2012.

ADDRESSES: Please send your comments to Phadrea Ponds, Information Collections Coordinator, National Park Service, 1201 Oakridge Drive, Fort Collins, CO 80525 (mail); or phadrea_ponds@nps.gov (email). Please reference Information Collection 1024-NEW: CALO SURVEY in the subject line.

FOR FURTHER INFORMATION CONTACT: Eva DiDonato at eva_didonato@nps.gov (email); or by mail at 1201 Oakridge Drive, Fort Collins, CO 80525.

I. Abstract

The National Park Service (NPS) will conduct a survey of Cape Lookout National Park visitors and a random sample of the general public in the local communities surrounding the park. The collection will be used to understand the social values visitors and residents of the local community place on cultural and natural resources of the park. The information from this collection will provide NPS managers and planners with scientifically sound data about visitors that can be used to prepare resource management planning documents.

Lessons learned from this study may be applied to mapping social values to support natural and cultural resources planning for units across the NPS system.

II. Data

OMB Control Number: None. This is a new collection.

Title: Cape Lookout National Park Visitor and Community Survey.

Type of Request: New.

Affected Public: General Public; Park Visitors and Local Residents.

Respondent Obligation: Voluntary.

Frequency of Collection: One-time.

Estimated Number of Responses: 7,722.

Estimated Annual Burden Hours: 961. We estimate the public reporting burden will average 17 minutes per response. This includes the time for reviewing instructions and completing the survey.

| Estimated number of responses | Annual burden hours
Visitor Survey | 762 | 318
Community Survey | 6,960 | 580

Estimated Annual Reporting and Recordkeeping “Non-Hour Cost”: None.

Public Disclosure Statement: The PRA (44 U.S.C. 3501, et seq.) provides that an agency may not conduct or sponsor a collection of information unless it displays a currently valid OMB control number and current expiration date.

III. Request for Comments

We invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: July 27, 2012.
Madonna L. Baucum,
Information Collection Clearance Officer, National Park Service.

[FR Doc. 2012-18848 Filed 8-1-12; 8:45 am]

BILLING CODE 4312-52-P